DEPARTMENT OF TRANSPORTATION

Federal Aviation Administration

14 CFR Part 39

[Docket No. 2003-NM-271-AD; Amendment 39-14470; AD 2006-03-06]

RIN 2120-AA64

Airworthiness Directives; Empresa Brasileira de Aeronautica S.A. (EMBRAER) Model EMB-135 Airplanes and Model EMB-145, -145ER, -145MR, -145LR, -145XR, -145MP, and -145EP Airplanes

AGENCY: Federal Aviation Administration (FAA), Department of Transportation (DOT).

ACTION: Final rule.

SUMMARY: This amendment adopts a new airworthiness directive (AD), applicable to all Empresa Brasileira de Aeronautica S.A. (EMBRAER) Model EMB-135 airplanes, and EMB-145, -145ER, -145MR, -145LR, -145XR, -145MP, and -145EP airplanes. This AD requires inspecting the pilot's and co-pilot's seat tracks for proper locking of the seats, and adjusting or replacing the seat tracks if necessary. This AD also requires replacement of the seat locking pin on certain SICMA-brand seats. The actions specified by this AD are intended to prevent uncommanded movement of the pilot's or co-pilot's seat, which could interfere with the operation of the airplane and consequent temporary loss of airplane control. This action is intended to address the identified unsafe condition.

DATES: Effective March 13, 2006.

The incorporation by reference of certain publications listed in the regulations is approved by the Director of the Federal Register as of March 13, 2006.

ADDRESSES: The service information referenced in this AD may be obtained from Empresa Brasileira de Aeronautica S.A. (EMBRAER), P.O. Box 343—CEP 12.225, Sao Jose dos Campos—SP, Brazil; or SICMA Aero Seat, 7 Rue Lucien Coupet, 3600 ISSOUDUN, France. This information may be examined at the Federal Aviation Administration (FAA), Transport Airplane Directorate, Rules Docket, 1601 Lind Avenue, SW., Renton, Washington.

FOR FURTHER INFORMATION CONTACT: Todd Thompson, Aerospace Engineer, International Branch, ANM-116, Transport Airplane Directorate, FAA, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain Empresa Brasileira de Aeronautica S.A. (EMBRAER) Model EMB-135 airplanes, and EMB-145, -145ER, -145MR, -145LR, -145XR, -145MP, and -145EP airplanes, was published as a supplemental notice of proposed rulemaking (NPRM) in the Federal Register on November 9, 2005 (70 FR 67935). That action proposed to require inspecting the pilot's and co-pilot's seat tracks for proper locking of the seats, and adjusting or replacing the seat tracks if necessary. That action revised the applicability and also proposed to require replacing the seat locking pin on certain SICMA-brand seats.

Comments

We provided the public the opportunity to participate in the development of this AD. No comments have been received on the supplemental NPRM or on the determination of the cost to the public.

Clarification of Alternative Method of Compliance (AMOC) Paragraph

We revised the supplemental NPRM to clarify the appropriate procedure for notifying the principal inspector before using any approved AMOC on any airplane to which the AMOC applies.

Conclusion

We have carefully reviewed the available data and determined that air safety and the public interest require adopting the AD with the change described previously. We have determined that this change will neither increase the economic burden on any operator nor increase the scope of the AD.

Cost Impact

The FAA estimates that 550 airplanes of U.S. registry are affected by this AD. The following table shows the estimated cost impact for airplanes affected by this AD. The average labor rate is $65 per work hour.

Estimated Costs
Action | Number of airplanes affected | Work hours | Parts cost | Total fleet cost
Inspection to determine seat and serial numbers | 550 | 1 | $0 | $35,750, or $65 per airplane
Inspection (Part I of EMBRAER Service Bulletin 145-53-0027, Revision 03, February 5, 2004) | 459 | 4 | 0 | $119,340, or $260 per airplane
Inspection and Alignment (Part III of EMRAER SB145-53-0027, Revision 03, February 5, 2004) | 348 | 4 | 0 | $90,480, or $260 per airplane
Locking Pin and Spring Replacement (SICMA Aero Seat SB 147-25-020, Issue 2, December 22, 2003) | 459 | 1 | 684 | $343,791, or $749 per airplane

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for this Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2006-03-06 Empresa Brasileira de Aeronautica S.A. (EMBRAER): Amendment 39-14470. Docket 2003-NM-271-AD.

Applicability: All Model EMB-135BJ, -135ER, -135KE, -135KL, and -135LR airplanes; and Model EMB-145, -145ER, -145MR, -145LR, -145XR, -145MP, and -145EP airplanes; certificated in any category.

Compliance: Required as indicated, unless accomplished previously.

To prevent uncommanded movement of the pilot's or copilot's seat, which could interfere with the operation of the airplane and consequent temporary loss of airplane control, accomplish the following:

Initial Inspection and Corrective Action

(a) Within 500 flight hours after the effective date of this AD, do the actions specified in paragraphs (a)(1), (a)(2), and (a)(3), as applicable.

(1) For all airplanes: Do an inspection of the pilot's and co-pilot's seats for part numbers (P/N) and serial numbers (S/N). A review of airplane maintenance records is acceptable in lieu of this inspection if the P/N and S/N of the seats can be conclusively determined from that review.

(i) If any seat is found to have P/N 1471610-00 or 1471611-00, and the S/N is 000 through 324 inclusive: Before further flight, do general visual and detailed inspection of the seat tracks for proper locking of the seats, and do all applicable related investigative actions and corrective actions, in accordance with Parts I and II, as applicable, of the Accomplishment Instructions of the EMBRAER Service Bulletin 145-53-0027, Revision 03, dated February 5, 2004.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Note 3: EMBRAER Service Bulletin 145-53-0027, Revision 03, dated February 5, 2004, refers to EMBRAER EMB-145 Structural Repair Manual, Chapter 53-12-11, dated July 18, 2001, as an additional source of information on the limits of acceptable wear.

(ii) If seats are found not to have P/N 1471610-00 or 1471611-00, and a S/N that is up to and including 324 inclusive: No further action is required by this paragraph.

(2) For airplanes having S/N 145004 through 145290 inclusive, do the actions specified in paragraph (a)(2)(i) or (a)(2)(ii) of this AD, as applicable.

(i) For airplanes with a seat track having P/N 145-33669-001: Do general visual and detailed inspections of the seat track(s) for proper locking of the seat and excessive wear, and do any applicable corrective action, in accordance with Parts I and II, as applicable, of the Accomplishment Instructions of EMBRAER Service Bulletin 145-53-0027, Revision 03, dated February 5, 2004. Replace seat tracks that are found to have excessive wear within 50 flight hours after the inspection with a new seat track having P/N 145-33669-003 or 145-33669-601. Do any other applicable corrective action before further flight. Repeat the general visual and detailed inspections thereafter at intervals not to exceed 500 flight hours until the seat track is replaced by a new seat track having P/N 145-33669-003 or 145-33669-601.

(ii) For airplanes without a seat track having P/N 145-33669-001: No further action is required by this paragraph.

(3) For airplanes having S/N 145002 through 145560 inclusive: If any seat is found during the inspection required by paragraph (a)(1) of this AD that does not have a P/N and S/N specified in paragraph (a)(1)(i) of this AD, within 500 flight hours after the effective date of this AD, do a general visual and detailed inspection of the pilot's and co-pilot's seats for proper locking of the seats, and do all applicable related investigative and corrective actions in accordance with Part III of the Accomplishment Instructions of EMBRAER Service Bulletin 145-53-0027, Revision 03, dated February 5, 2004, except as provided by paragraph (d) of this AD. Do any corrective actions before further flight.

Replacement

(b) For airplanes with a SICMA seat(s) bearing a P/N listed in Table 1 of this AD, within 1,000 flight hours after the effective date of this AD, replace the seat locking pin with a new, improved seat locking pin in accordance with the Accomplishment Instructions of SICMA Aero Seat Service Bulletin 147-25-020, Issue 2, dated December 22, 2003. For airplanes without any SICMA seat bearing a P/N listed in Table 1 of this AD, no further action is required by this paragraph.

Table 1.—SICMA Seat P/Ns
Part number
1471610-00
1471610-01
1471610-02
1471610-03
1471611-00
1471611-01
1471611-02
1471611-03

Parts Installation

(c) As of the effective date of this AD, no SICMA seat bearing a P/N listed in Table 1 of this AD may be installed on any airplane unless the seat locking pin has been replaced in accordance with paragraph (b) of this AD.

Certain Repairs

(d) Where the EMBRAER service bulletin recommends contacting EMBRAER for appropriate action: Before further flight, repair per a method approved by either the Manager, International Branch, ANM-116, Transport Airplane Directorate, FAA; or the Departamento de Aviacao Civil (or its delegated agent).

Actions Accomplished Per Previous Issue of Service Bulletin

(e) Accomplishment of the actions specified in EMBRAER Service Bulletin 145-53-0027, dated May 31, 2001; Change 01, dated March 12, 2002; or Revision 02, dated January 24, 2003; before the effective date of this AD, is considered acceptable for compliance with the corresponding requirements of paragraph (a) of this AD.

(f) Accomplishment of the actions specified in SICMA Aero Seat Service Bulletin 147-25-020, dated November 17, 2003; or Issue 1, dated December 3, 2003; before the effective date of this AD, is considered acceptable for compliance with the requirements of paragraph (b) of this AD.

Alternative Methods of Compliance

(g)(1) In accordance with 14 CFR 39.19, the Manager, International Branch, ANM-116, FAA, is authorized to approve alternative methods of compliance (AMOCs) for this AD.

(2) Before using any AMOC approved in accordance with 14 CFR 39.19 on any airplane to which the AMOC applies, notify the appropriate principal inspector in the FAA Flight Standards Certificate Holding District Office.

Incorporation by Reference

(h) Unless otherwise specified in this AD, the actions must be done in accordance with EMBRAER Service Bulletin 145-53-0027, Revision 03, dated February 5, 2004; and SICMA Aero Seat Service Bulletin 147-25-020, Issue 2, dated December 22, 2003; as applicable. (Pages 6, 8, 10, 12, 14, 16, 18, 20, 22, 24, 26, and 28 of EMBRAER Service Bulletin 145-53-0027 specify an incomplete document date; the date on those pages should read “05/Feb/2004.”) This incorporation by reference was approved by the Director of the Federal Register in accordance with 5 U.S.C. 552(a) and 1 CFR part 51. To get copies of this service information, contact Empresa Brasileira de Aeronautica S.A. (EMBRAER), P.O. Box 343—CEP 12.225, Sao Jose dos Campos—SP, Brazil; or SICMA Aero Seat, 7 Rue Lucien Coupet, 36100 ISSOUDUN, France. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Note 4: The subject of this AD is addressed in Brazilian airworthiness directive 2002-09-01R1, effective June 2, 2004.

Effective Date

(i) This amendment becomes effective on March 13, 2006.

Issued in Renton, Washington, on January 24, 2006.
Ali Bahrami,
Manager, Transport Airplane Directorate, Aircraft Certification Service.

[FR Doc. 06-990 Filed 2-3-06; 8:45 am]

BILLING CODE 4910-13-P